DEPARTMENT OF THE INTERIOR

Fish and Wildlife Service

50 CFR Part 17

[FWS-R3-ES-2008-0030; 1111 FY07 MO-B2]

Endangered and Threatened Wildlife and Plants; 90-Day Finding on a Petition To List the U.S. Population of Coaster Brook Trout (Salvelinus fontinalis) as Endangered

AGENCY: Fish and Wildlife Service, Interior.

ACTION: Notice of 90-day petition finding and initiation of status review.

SUMMARY: We, the U.S. Fish and Wildlife Service (Service), announce a 90-day finding under the Endangered Species Act of 1973, as amended (Act), concerning the petition to list as endangered a population of brook trout (Salvelinus fontinalis) known as coaster brook trout throughout its known historic range in the conterminous United States. We find that the petition contains substantial scientific or commercial information indicating that listing the U.S. population of coaster brook trout may be warranted. Therefore, with the publication of this notice, we are initiating a status review of the coaster brook trout. At the conclusion of the status review, we will issue a 12-month finding on the petition. To ensure that the status review of the coaster brook trout is comprehensive, we are soliciting scientific and commercial information regarding the coaster brook trout throughout its range. We will make a determination on critical habitat for this species if we initiate a listing action.

DATES: We will accept comments received or postmarked on or before May 19, 2008. We must receive requests for public hearings, in writing, at the address shown in the ADDRESSES section by May 5, 2008.

ADDRESSES: You may submit comments by one of the following methods:

• Federal eRulemaking Portal: http://www.regulations.gov. Follow the instructions for submitting comments.

• U.S. mail or hand-delivery: Public Comments Processing, Attn: FWS-R3-ES-2008-0030, Division of Policy and Directives Management; U.S. Fish and Wildlife Service; 4401 N. Fairfax Drive, Suite 222; Arlington, VA 22203.

We will not accept e-mail or faxes. We will post all comments on http://www.regulations.gov. This generally means that we will post any personal information you provide us (see the Public Comments section below for more information).

FOR FURTHER INFORMATION CONTACT: Ms. Jessica Hogrefe, East Lansing Field Office, U.S. Fish and Wildlife Service, 2651 Coolidge Road—Suite 101, East Lansing, MI 48823-6316; telephone 517-351-8470; facsimile 517-351-1443. If you use a telecommunications device for the deaf (TDD), call the Federal Information Relay Service (FIRS) at (800) 877-8339.

SUPPLEMENTARY INFORMATION:

Public Comments

When we make a finding that a petition presents substantial scientific or commercial information indicating that the petitioned action may be warranted, we are required to promptly commence a review of the status of the species. To ensure that the status review is complete and based on the best available scientific and commercial information, we are soliciting information on coaster brook trout throughout its range. We request any additional information, comments, and suggestions from the public, other concerned governmental agencies, Tribes, the scientific community, industry, or any other interested parties concerning the status of coaster brook trout. We are seeking information regarding:

(1) The species' historical and current population status, distribution, and trends; its biology and ecology; and habitat selection;

(2) The effects of potential threat factors that are the basis for a listing determination under section 4(a) of the Act, which are:

(a) The present or threatened destruction, modification, or curtailment of the species' habitat or range;

(b) Overutilization for commercial, recreational, scientific, or educational purposes;

(c) Disease or predation;

(d) The inadequacy of existing regulatory mechanisms; or

(e) Other natural or manmade factors affecting its continued existence.

(3) Management programs for the conservation of the coaster brook trout.

We will base our 12-month finding on a review of the best scientific and commercial information available, including all information received during the public comment period.

You may submit your comments and materials concerning this finding by one of the methods listed in the ADDRESSES section. Comments must be submitted to http://www.regulations.gov before midnight Eastern Time on the date specified in the DATES section. We will not accept comments sent by e-mail or fax or to an address not listed in the ADDRESSES section. We will not accept anonymous comments; your comment must include your first and last name, city, state, country, and postal (zip) code. Finally, we will not consider hand-delivered comments that we do not receive, or mailed comments that are not postmarked, by the date specified in the DATES section.

We will post your entire comment—including your personal identifying information—on http://www.regulations.gov. If you provide personal identifying information in addition to the required items specified in the previous paragraph, such as your street address, phone number, or e-mail address, you may request at the top of your document that we withhold this information from public review. However, we cannot guarantee that we will be able to do so.

Comments and materials we receive, as well as supporting documentation we used in preparing this finding, will be available for public inspection on http://www.regulations.gov, or by appointment, during normal business hours, at the U.S. Fish and Wildlife Service, East Lansing Field Office (see FOR FURTHER INFORMATION CONTACT).

Background

Section 4(b)(3)(A) of the Act (16 U.S.C. 1531 et seq.) requires that we make a finding on whether a petition to list, delist, or reclassify a species presents substantial scientific or commercial information to indicate that the petitioned action may be warranted. We are to base this finding on information provided in the petition and supporting information submitted with the petition. To the maximum extent practicable, we are to make this finding within 90 days of our receipt of the petition, and publish our notice of this finding in the Federal Register.

Our standard for substantial scientific or commercial information for a 90-day petition finding, as defined by the Code of Federal Regulations (CFR), is “that amount of information that would lead a reasonable person to believe that the measure proposed in the petition may be warranted” (50 CFR 424.14(b)). If we find that the petition presents substantial scientific or commercial information, we are required to promptly commence a review of the species status.

The Sierra Club Mackinac Chapter, Huron Mountain Club, and Marvin J. Roberson filed a petition dated February 22, 2006, with the Secretary of the Interior to list as endangered the naturally spawning lake-dwelling coaster brook trout throughout its known historic range in the conterminous United States and to designate critical habitat under the Act. The petition clearly identifies itself as such and includes the requisite identification information for the petitioners, as required in 50 CFR 424.14(a). On behalf of the petitioners, Peter Kryn Dykema, Secretary of the Huron Mountain Club, submitted supplemental information dated May 23, 2006, in support of the original petition. This supplemental information provides further information on the species status and biology, particularly for the Salmon Trout River.

In a letter to the petitioners dated April 27, 2006, we explained that we would not be able to address their petition at that time, due to the need to address higher priority listing actions. In 2007, the Service directed funds to address the coaster brook trout 90-day finding. On September 13, 2007, we received a 60-day notice of intent to sue over the Service's failure to make a determination within 1 year of receiving the petition, as to whether the coaster brook trout warrants listing. As described above, under section 4 of the Act, the Service is to make a finding, to the maximum extent practicable within 90 days of receiving a petition, regarding whether it presents substantial scientific or commercial information indicating that the petitioned action may be warranted. Further, the Act requires that within 12 months after receiving a petition found to present substantial information, the Service must make a finding as to whether the petitioned action is warranted. A complaint was filed in U.S. District Court in the District of Columbia on December 17, 2007, for failure to make a timely finding.

In making this finding, we considered information provided by the petitioners, as well as information readily available in our files at the time of the petition review. We evaluated that information in accordance with 50 CFR 424.14(b). Our process for making this 90-day finding under section 4(b)(3)(A) of the Act and the associated regulations is based on using the “substantial scientific and commercial information” threshold described above. This finding does not consider critical habitat, because any decision concerning the need for, or identification of, areas to consider for critical habitat would occur only if we decide to prepare a proposed rule to list the species. This notice constitutes our 90-day finding for the petition to list the U.S. population of coaster brook trout.

Species Information

Brook trout (Salvelinus fontinalis) are a member of the char genus in the family Salmonidae; they live in well-oxygenated streams, rivers, and lakes of northeastern North America (Scott and Crossman 1973, pp. 30, 213). Some brook trout populations are adfluvial or anadromous, migrating from lakes and oceans (respectively) into tributary streams for feeding and spawning (Lake Superior Brook Trout Subcommittee 1997, pp. 4-5; Ryther 1997, pp. 1-34). Coaster brook trout are a life history form of brook trout that spend a portion of their life cycle in the Great Lakes (Becker 1983, p. 320). These brook trout are known as “coasters” because they spend part of their life cycle along the coast of a lake. Some coaster brook trout subpopulations or runs are adfluvial and migrate from Lake Superior to tributary streams to spawn; other coaster brook trout subpopulations are lacustrine and remain in Lake Superior throughout their life cycle (Quinlan 1999, p. 15). Coaster brook trout mature later, live longer, and grow larger than stream resident brook trout (Becker 1983, p. 318; Lake Superior Brook Trout Subcommittee 1997, p. 10).

Historically, coaster brook trout occurred in Lakes Huron, Michigan, and Superior (Bailey and Smith 1981, p. 1549) and in more than 50 streams along the Michigan, Wisconsin, and Minnesota shores of Lake Superior (Newman et al. 2003, pp. 34-38). They have been extirpated in Lakes Huron and Michigan (Quinlan 2008). Self-sustaining subpopulations or spawning runs remain in four streams in the U.S. portion of Lake Superior (Quinlan 2008). Population levels in these streams are considered low (Quinlan 2008). No harvest is allowed in the four streams with coaster brook trout subpopulations in the United States, (Dykema 2006, p. 2; National Park Service 2007, p. 10). Coaster brook trout may be harvested within the waters of Lake Superior itself through angling, subject to a 20-inch (51-centimeter) minimum size limit (Baker 2007). Few coaster brook trout from the Salmon Trout River subpopulation exceed this size limit (Huckins and Baker 2004, p. 21). Additionally, no harvest is allowed in Lake Superior waters that are within 4.5 miles (7.2 kilometers) of Isle Royale National Park (National Park Service 2007, p. 10).

In Canada, coaster brook trout populations historically occurred in approximately 60 streams (Newman et al. 2003, pp. 31-33). Data suggest that spawning runs remain in a few Canadian streams in Lake Superior, and numbers in these streams are described in general terms as being very low overall (Ontario Ministry of Natural Resources undated, p. 1). Coaster brook trout populations are also present in Lake Nipigon (Ontario). Recent estimates suggest that the Lake Nipigon spawning population has declined 75 percent compared to the population level in the 1930s (Ontario Ministry of Natural Resources undated, p. 1). However, neither the petition nor information readily available to the Service provides information regarding the population size in the 1930s, making it difficult to determine the accuracy of the estimated decline. Coaster brook trout in Canada may be harvested by anglers in both Lake Superior and its tributaries, subject to size, bag, and seasonal limits (Ontario Ministry of Natural Resources 2008, pp. 48-49). Coaster brook trout are not being considered for protection under Canada's Species at Risk Act (Chase 2008).

Distinct Vertebrate Population Segment

The petitioners asked us to list the naturally spawning anadromous (lake-run) coaster brook trout throughout its known historical range in the conterminous U.S.; they asserted that the Salmon Trout River coaster population is reproductively isolated from the in-stream resident brook trout population and should be considered a Distinct Population Segment (DPS). Section 3 of the Act defines the term “species” to include “any subspecies of fish or wildlife or plants, and any distinct population segment of any species of vertebrate fish or wildlife which interbreeds when mature.” 16 U.S.C. 1532(16). In determining whether an entity constitutes a DPS and is, therefore, listable under the Act, we follow the Policy Regarding the Recognition of Distinct Vertebrate Population Segments Under the Endangered Species Act (DPS Policy) (61 FR 4722; February 7, 1996). The policy identifies three elements we are to consider in making a decision regarding the status of a possible DPS for listing under the Act: (1) The discreteness of the population segment in relation to the remainder of the species to which it belongs; (2) The significance of the population segment to the species to which it belongs; and (3) The population segment's conservation status in relation to the Act's standards for listing (that is, whether the population segment, when treated as if it were a species, is endangered or threatened) (61 FR 4722; February 7, 1996). This finding considers whether the petition presents substantial scientific or commercial information that the petitioned coaster brook trout may be a DPS, and if so, whether the information indicates that listing may be warranted.

Discreteness

Under the DPS Policy, a population segment of a vertebrate species may be considered discrete if it satisfies either one of the following two conditions: (1) It is markedly separated from other populations of the same taxon as a consequence of physical, physiological, ecological, or behavioral factors; or (2) It is delimited by international governmental boundaries within which significant differences in control of exploitation, management of habitat, conservation status, or regulatory mechanisms exist (61 FR 4722; February 7, 1996).

The petition asserts that coaster brook trout are “distinguished from stream resident brook trout by behavior” and information submitted in association with the petition notes that coaster brook trout “are distinguished from stream resident brook trout by behavior, i.e. anadromy—and by physiology (they grow much larger, and may be longer-lived).” Information in our files supports this assertion because, unlike resident brook trout that remain in streams, coaster brook trout are adfluvial or lacustrine, spending part or all of their life cycle in the Great Lakes (Becker 1983, p. 320; Newman et al. 2003, p. 39). Therefore, we find that the petition presents substantial information that would lead a reasonable person to believe that the U.S. population of coaster brook trout may be discrete from stream resident brook trout because of differences in behavior and physiology.

The petition also asserts that coaster brook trout (of the Salmon Trout River) are “separated from coaster populations in the Nipigon River area [in Canada] by an international boundary.” Further, the petition states that coaster brook trout programs currently are administered and implemented by a wide variety of Federal, State, private, and international institutions, and that the result has been duplicated effort, inadequate communication, and sometimes contradictory policies and practices. Finally, the petition states that the entire reach of the Salmon Trout River in Marquette County (MI) is owned by the Huron Mountain Club (HMC, one of the petitioners) and that, since 1995, HMC has prohibited its members from killing coaster brook trout there.

Information in our files or otherwise readily available to us supports the statement that the coaster brook trout described in the petition (in the Salmon Trout River and on Isle Royale) are separated from coaster brook trout subpopulations in the Nipigon River area and elsewhere in Canada by an international boundary, and in addition, this information indicates that the boundary delimits differences in control of exploitation and regulatory mechanisms (Lake Superior Brook Trout Subcommittee 1997, p. 4; Ontario Ministry of Natural Resources, 2008 p. 48-49). More specifically, differences in control of exploitation and regulatory mechanisms between the United States and Canada relate to allowable harvest of coaster brook trout and the fishing regulations that dictate this harvest.

In the United States, coaster brook trout: (1) May not be harvested in the four remaining streams with coaster brook trout subpopulations (Dykema 2006, p. 2; National Park Service 2007, p. 10); (2) may be harvested in the U.S. waters of Lake Superior within the lake itself, subject to a 20-inch (51-centimeter) minimum size limit (Baker 2007); and (3) may not be harvested in Lake Superior waters within 4.5 miles (7.2 kilometers) of Isle Royale National Park, which would protect the subpopulations of Isle Royale National Park (National Park Service 2007, p. 10). The lack of coasters in the Salmon Trout River subpopulation that exceed the 20-inch (51-centimeter) size limit (Huckins and Baker 2004, p. 21) indicates that few coasters meet the minimum size limit in the U.S. waters of Lake Superior where harvest is allowed.

In comparison, coaster brook trout in Canada may be harvested within Lake Superior itself and its tributaries, subject to size, bag, and seasonal limits (Ontario Ministry of Natural Resources 2008, p. 48-49), but we have no information indicating that there are any locations in Canadian waters occupied by coaster brook trout where their harvest is not allowed. Therefore, we find there is substantial scientific and commercial information indicating that the petitioned U.S. coaster brook trout may be discrete from coaster brook trout in Canada because of an international boundary that delimits differences in control of exploitation and regulatory mechanisms.

Significance

Under our DPS Policy, in addition to our consideration that a population segment is discrete, we consider its biological and ecological significance to the species to which it belongs. The DPS policy states that if a population segment is considered discrete under one or more of the discreteness criteria, its biological and ecological significance will then be considered in light of Congressional guidance that the authority to list DPSs be used “sparingly” while encouraging the conservation of genetic diversity. Under the DPS policy, our consideration of significance may include, but is not limited to: (1) Evidence of the persistence of the discrete population segment in an ecological setting that is unique or unusual for the taxon; (2) Evidence that loss of the population segment would result in a significant gap in the range of the taxon; (3) Evidence that the population segment represents the only surviving natural occurrence of a taxon that may be more abundant elsewhere as an introduced population outside its historical range; or (4) Evidence that the discrete population segment differs markedly from other populations of the species in its genetic characteristics (61 FR 4722; February 7, 1996).

Information Provided in the Petition on Significance

The petition asserts that the coaster brook trout of the Salmon Trout River are significant to the brook trout taxon because their loss “would result in a significant gap in the range of the taxon.” Information in our files indicates that lake-dwelling coaster brook trout historically occurred in Lakes Superior, Huron, and Michigan (Bailey and Smith 1981, p. 1549), but are now extirpated from Lakes Huron and Michigan (Quinlan 2008). The coaster brook trout described in the petition (in the Salmon Trout River and on Isle Royale) are the last remaining lake-dwelling brook trout in Lake Superior (Newman et. al. 2003, p. 39); thus if the coaster subpopulations in the Salmon Trout River and on Isle Royale disappear, lake-dwelling brook trout would be extirpated throughout the U.S. waters of the Great Lakes. Therefore, we find that the petition presents substantial information that would lead a reasonable person to believe that the U.S. coaster brook trout may be significant to the species to which it belongs, based on evidence that loss of the U.S. population of coaster brook trout may result in a significant gap in the range of the taxon.

DPS Conclusion

We have reviewed the information presented in the petition and have evaluated it in accordance with 50 CFR 424.14(b). In a 90-day finding, the question is whether a petition presents substantial scientific or commercial information indicating that the petitioned action may be warranted. We do not make final determinations regarding DPSs at this stage; rather, we determine whether a petition presents substantial information that a population may be a DPS. Based on our evaluation described above, we conclude that the petition and information readily available to us do present substantial scientific or commercial information indicating that the U.S. population of coaster brook trout may be discrete and significant within the meaning of our DPS policy, and therefore may constitute a DPS.

To meet the third element of the DPS policy, we evaluate the level of a population segment's conservation status in relation to the Act's standards for listing. This involves an analysis, referred to as a threats analysis, pursuant to the five listing factors specified in section 4 of the Act. We thus proceeded with an evaluation of whether the petition presents substantial scientific or commercial information indicating that listing the U.S. population of coaster brook trout may be warranted. Our threats analysis and conclusion follow.

Five-Factor Analysis

Section 4 of the Act and its implementing regulations (50 CFR part 424) set forth the procedures for adding species to the Federal Lists of Endangered and Threatened Wildlife and Plants. We may list a taxon on the basis of any one of the following factors: (A) Present or threatened destruction, modification, or curtailment of habitat or range; (B) Overutilization for commercial, recreational, scientific, or educational purposes; (C) Disease or predation; (D) Inadequacy of existing regulatory mechanisms; or (E) Other manmade or natural factors affecting its continued existence. Consistent with our regulations for making 90-day findings (50 CFR 424.14(b)), we evaluated whether the threats to the U.S. population of coaster brook trout presented in the petition would lead a reasonable person to believe that the petitioned action may be warranted. The following evaluation of these threats was based on information provided or cited in the petition and found to be substantial, and information from our files used to evaluate the information in the petition.

Factor A. The Present or Threatened Destruction, Modification, or Curtailment of the Species' Habitat or Range

The petition asserts that the following conditions under Factor A threaten the coaster brook trout: Dams and river diversions; toxic pollution related to organophosphorus compounds (that is, as used in pesticides), deoxygenation via decomposition of organic material and other effluents from paper mills and other sources, and mercury (from fungicides and wood pulp treatment); stream acidification via acid rain, acid spills, and the proposed Kennecott's sulfide mine; changes in water temperature and flow due to deforestation and reservoir release, and dams and diversions; and siltation.

The information presented in the petition regarding dams and diversions, toxic pollution, deoxygenation via decomposition of organic material, acid level changes in streams, and changes in water temperature and flow is general. The petition does not explain how the concerns expressed would result in the present or threatened destruction, modification, or curtailment of the habitat or range of the U.S. coaster brook trout. Also, the petition acknowledges that, with regard to toxic pollution, deoxygenation, and changes in water temperature and flow, little research has been done on their possible impacts to coaster brook trout in the Upper Great Lakes.

The petitioners assert that siltation due to increases in road building may threaten coaster brook trout in the Salmon Trout River. In particular, the petitioners cite a road wash-out in 2005 that deposited 80 tons of sediment into the river. The petitioners assert that siltation can affect the reproductive success of coaster brook trout by filling in holding areas of migrating adults; filling hollows that afford protection for juveniles; filling interstitial spaces in the substrate that are required for proper water flow and egg oxygenation; and decreasing the amount of rooted plants and algae, which in turn may reduce the biomass of benthic invertebrates (food for young coaster brook trout). Additionally, the petitioners assert that siltation can interfere with fish respiration and impact water flow and clarity, which may subsequently impede migration and feeding. Two references are given to support the above statements regarding the effects of siltation on fish (Mills 1989, Shearer 1992); these citations were not listed in the References section of the petition. Additionally, we did not have these two references in our files, and we could not find them using a literature search. However, readily available sources in our files corroborated the effects of siltation on fish reproduction, respiration, and feeding (Waters 1995, pp. 79-118). Similarly, although no reference was provided for the 2005 siltation event, we concur that the event took place and that future road washouts in the Salmon Trout River could result in impacts to the coaster brook trout downstream (Baker 2007). Therefore, based principally on information related to siltation, we find that the petition presents substantial information indicating that the petitioned action may be warranted due to the present or threatened destruction, modification, or curtailment of the habitat or range of the U.S. coaster brook trout.

Factor B. Overutilization for Commercial, Recreational, Scientific, or Educational Purposes

With regard to Factor B, the petition asserts that sport fishing and commercial fishing threaten the coaster brook trout. However, the information presented is limited to noting that a commercial fishery existed on many rivers used by coaster brook trout in the 19th century, and that the extremely low number of extant coaster brook trout means almost none will be caught by commercial vessels. The petition also states that both the Huron Mountain Club and Isle Royale National Park have restrictions on keeping coaster brook trout that may be caught during sport fishing. The petition does not present any information indicating there is overutilization for commercial, recreational, scientific, or educational purposes, and we have no information in our files indicating that there is any such overutilization. Consequently, we find that the petition does not present substantial information for Factor B.

Factor C. Disease or Predation

The petition does not provide information pertaining to Factor C. Therefore, we find that the petition does not present substantial information in relation to this factor.

Factor D. The Inadequacy of Existing Regulatory Mechanisms

With regard to Factor D, the petition asserts the following: there is no single government entity with overall program authority for managing coaster brook trout; there is inadequate authority to prevent conflicting government policies and programs, land-use practices, and toxic pollution; there is over-reliance on hatchery production and stocking; program funding is inadequate; and there is a lack of public education and involvement in coaster brook trout restoration. The petition also asserts that existing programs are inadequate to provide for the long-term viability of Salvelinus fontinalis in the U.S. and the restoration and protection of its habitat. Other than the two sentences making these very general assertions, the petition presents no information or explanation as to why the petitioned coaster brook trout is threatened as a result of the inadequacy of existing regulatory mechanisms. Therefore, we find that the petition does not present substantial information in relation to Factor D.

Factor E. Other Manmade or Natural Factors Affecting Its Continued Existence

The petition asserts that the following factor under Factor E threatens the coaster brook trout: Competition with rainbow trout, coho salmon, and brown trout. However, the petition concludes that it is doubtful “that competition played a large role in reducing coaster brook trout and there is no direct evidence to suggest that this has happened along large areas of the Lake Superior shoreline” (p. 20). Consequently, the petition does not provide substantial information with respect to competition.

The petition also asserts that small population size may threaten the continued survival of the coaster brook trout population in the Salmon Trout River. Recent surveys have estimated that the average annual spawning population in the Salmon Trout River is fewer than 200 individuals; this average may be an underestimate given limitations of the gear and methods (Huckins, 2006). The petition compares this average annual spawning population to the number of bull trout (Salvelinus confluentus) that spawned in the Jarbidge River annually when it was emergency-listed (50-125 individuals) (63 FR 42757; August 11, 1998). The petition also compares the average to the definitions of a strong subpopulation (greater than 500 spawners) and depressed population (fewer than 500 spawners) given in the Determination of Threatened Status for the Klamath River and Columbia River Distinct Population Segments of Bull Trout (63 FR 31647; June 10, 1998).”

Information in our files supports the conclusion of a depressed subpopulation in the Salmon Trout River (Lake Superior Brook Trout Subcommittee 1997, p. 4). Surveys also indicate that coaster brook trout numbers are low in the three locations where self-sustaining populations occur on Isle Royale (National Park Service 2007, p. 10; Quinlan 2008). The annual spawning population at Tobin Harbor may be less than 150 (National Park Service 2007; p. 10). The sizes of the annual spawning populations at Siskiwit River and Washington Creek are unknown but believed to be low (Quinlan 2008). Although coaster brook trout have been stocked into several streams along the U.S. shoreline of Lake Superior including Whittlesey Creek (WI) and Grand Portage Creek (MN), none of these stocking programs has resulted in self-sustaining populations (Newman et al. 2003, p. 39; Quinlan 2008). Therefore, based on population size, we find that the petition presents substantial information relative to Factor E.

Finding

We have reviewed the petition, supporting information provided by the petitioners, and information that was readily available in our files or elsewhere (such as the Internet). As described above, the petition presents evidence of siltation in the Salmon Trout River that indicates the present or threatened destruction or modification or curtailment of the habitat or range of coaster brook trout, with impact to fish reproduction, respiration, and feeding (Waters 1995, pp. 79-118). The petition also presents information regarding population size, which indicates the small number estimated to remain poses a risk to the continued survival of the petitioned population of coaster brook trout. We find that the petition presents substantial information to indicate that the petitioned action may be warranted, based on threats posed by siltation and small population size. Therefore, we are initiating a status review of coaster brook trout to determine whether listing the species under the Act is warranted. To ensure that the status review is comprehensive, we are soliciting scientific and commercial information regarding this species.

References

A complete list of all references cited herein is available on request from the East Lansing Field Office (see FOR FURTHER INFORMATION CONTACT).

Author

The primary author of this document is the staff of Region 3 Endangered Species Program, U.S. Fish and Wildlife Service, 1 Federal Drive, Fort Snelling, MN 55111.

Authority: The authority for this action is the Endangered Species Act of 1973, as amended (16 U.S.C. 1531 et seq.).

Dated March 12, 2008.
H. Dale Hall,
Director, Fish and Wildlife Service.

[FR Doc. E8-5618 Filed 3-19-08; 8:45 am]

BILLING CODE 4310-55-P